DEPARTMENT OF THE INTERIOR

National Park Service

Notice of Inventory Completion for Native American Human Remains and Associated Funerary Objects in the Control of the Alaska State Office, Bureau of Land Management, Anchorage, AK

AGENCY: National Park Service.

ACTION: Notice.

Notice is hereby given in accordance with provisions of the Native American Graves Protection and Repatriation Act (NAGPRA), 43 CFR 10.9, of the completion of an inventory of human remains and associated funerary objects in the control of the Alaska State Office, Bureau of Land Management, Anchorage, AK.

A detailed assessment of the human remains was made by Bureau of Land Management and University of Alaska Museum professional staff in consultation with representatives of the Native Village of Eagle, AK.

In 1939, human remains representing one individual were uncovered during legally authorized construction of the Civilian Aeronautics Administration building in Eagle, AK. No known individual was identified. The 115 associated funerary objects include glass beads, one dentalium shell, 13 pieces of wood with red color, and one bag of wood fragments and particles.

In 1949, human remains representing one individual were uncovered in the same vicinity as the 1939 individual during legally authorized collections by Dr. Otto Geist of the University of Alaska Museum. No known individual was identified. The 19 associated funerary objects are birch bark pieces with lacing holes.

Both of these individual are curated at the University of Alaska Museum.

Based on skeletal morphology, geographic location, and associated artifacts, these two individuals have been identified as Native American, affiliated with Han Athabaskan culture and specifically with the Native Village of Eagle, AK. This determination of cultural affiliation has been based upon the continuity of Native Americans in the Eagle area and their oral tradition that the area where the remains were found is a traditional burial site.

Based on the above mentioned information, officials of the Bureau of Land Management have determined that, pursuant to 43 CFR 10.2 (d)(1), the human remains listed above represent the physical remains of two individuals of Native American ancestry. Officials of the Bureau of Land Management have also determined that, pursuant to 43 CFR 10.2 (d)(2), the 134 objects listed above are reasonably believed to have been placed with or near individual human remains at the time of death or later as part of the death rite or ceremony. Lastly, officials of the Bureau of Land Management have determined that, pursuant to 43 CFR 10.2 (e), there is a relationship of shared group identity which can be reasonably traced between these Native American human remains and associated funerary objects and the Native Village of Eagle, Alaska.

This notice has been sent to officials of the Native Village of Eagle, Alaska. Representatives of any other Indian tribe that believes itself to be culturally affiliated with these human remains and associated funerary objects should contact Dr. Robert King, Alaska State NAGPRA Coordinator, Bureau of Land Management, 222 W. 7th Avenue, #13, Anchorage, AK 99513-7599; telephone: (907) 271-5510, before May 30, 2000. Repatriation of the human remains and associated funerary objects to the Native Village of Eagle, Alaska may begin after that date if no additional claimants come forward.

Dated: April 20, 2000.
Francis P. McManamon,
Departmental Consulting Archeologist, Manager, Archeology and Ethnography Program.

[FR Doc. 00-10463 Filed 4-26-00; 8:45 am]

BILLING CODE 4310-70-F